DEPARTMENT OF AGRICULTURE

Agricultural Marketing Service

[Doc. No. FV-06-378]

Notice of Request for Revision of a Currently Approved Information Collection

AGENCY: Agricultural Marketing Service, USDA.

ACTION: Notice and request for comments.

SUMMARY: In accordance with the Paperwork Reduction Act of 1995 (44 U.S.C. Chapter 35), this notice announces that the Agricultural Marketing Service (AMS) is requesting approval from the Office of Management and Budget of a new information collection: the USDA Food and Commodity Connection Web site.

DATES: Comments received by March 19, 2007 will be considered.

Additional Information or Comments: Contact Lynne E. Yedinak, Food Quality Assurance Staff, Fruit and Vegetable Programs, Agricultural Marketing Service, U.S. Department of Agriculture, STOP 0243, 1400 Independence Avenue, SW., Washington, DC 20250-0243, telephone: (202) 720-9939 and Fax: (202) 690-0102.

SUPPLEMENTARY INFORMATION: Title: USDA Food and Commodity Connection Web site.

OMB Number: 0581-0224.

Expiration Date of Approval: October 31, 2007.

Type of Request: Revision of a Currently Approved Information Collection.

Abstract: The information collection requirements in this request are needed for the operation of the U.S. Department of Agriculture (USDA) Food and Commodity Connection Web site, which operates pursuant to the authority of Section 32 of Public Law 320. The USDA Food and Commodity Connection Web site supports the U.S. Department of Agriculture, Agricultural Marketing Service mission of facilitating the efficient, fair marketing of U.S. agricultural products. Registering to participate on or use the USDA Food and Commodity Connection Web site is voluntary.

The National School Lunch Program is a federally assisted meal program operating in over 100,000 public and non-profit private schools and residential childcare institutions. It provides nutritionally balanced, low-cost or free lunches to more than 29 million children each school day. In 1998, Congress expanded the National School Lunch Program to include reimbursement for snacks served to children in after-school educational and enrichment programs to include children through 18 years of age. The USDA Food and Commodity Connection Web site was developed to assist schools and other feeding groups to find the most nutritious value-added foods made from the vast diversity of agricultural products purchased by the Federal Government for the National School Lunch Program and other feeding programs that utilize these commodities such as Native American facilities, health care facilities, colleges and universities, prisons, and needy families. The USDA Food and Commodity Connection Web site identifies processors who can further process USDA supplies commodities and the brokers, distributors, and food associations that offer information and support to purchase the value-added products.

Institutional food service professionals (public and private schools, the military, Veterans Administration facilities, Native American facilities, health care facilities, colleges and universities, prisons, child care facilities and facilities for needy families) who choose to register on the USDA Food and Commodity Connection Web site provide the following information: The registrant's name, position, e-mail address, telephone number, school/organization name, and address. Processors who choose to register on the USDA Food and Commodity Connection Web site provide the following information: Confirmation that the company is eligible to participate in Federal procurement, the registrant's name, position, e-mail address, telephone number, company name, address, country, and whether they are a national or regional processor. Distributors who choose to register on the USDA Food and Commodity Connection Web site provide the following information: The registrant's name, position, e-mail address, telephone number, company name, address, country, and whether they are a national or regional distributor. Brokers who choose to register on the USDA Food and Commodity Connection Web site provide the following information: The registrant's name, position, e-mail address, telephone number, brokerage company name, address, country, and the States they serve. Food related associations who choose to register on the USDA Food and Commodity Connection Web site provide the following information: The association name, address, city, state, zip code, country, e-mail address, telephone number, and a description of association services. Information provided by institutional food service professionals assist processors, distributors, and brokers to view meal-serving information of a school or organization. Processor and distributor food products and contact information are available to the institutional food service professionals to assist them in locating processors and distributors that handle the food products that they want to use. The information provided by brokers enables institutional food service professionals to know which manufacturers the broker represents, which States the broker serves, and contacts at the brokerage firm. All registrants on the USDA Food and Commodity Connection Web site will be redirected to the USDA eAuthentication Web site to register their Level 1 Access (OMB No. 0503-0014). Each new user must create their own login ID and password, meeting the eAuthentication requirements.

The USDA Food and Commodity Connection Web site has under gone numerous changes since this information collection was approved October 31, 2004. Prior to launching the USDA Food and Commodity Connection Web site in 2004, the food manufacturers requested changes to streamline the data entry process. These changes were made and the Web site was redeployed September 2006. The changes to the Web site provide processors and distributors with three methods to load product data to the USDA Food and Commodity Connection Web site. The new methods of entering data have dramatically reduced our estimate of the number of responses and burden hours: Total estimated responses reduced from 15,200 to 1,845; total burden estimated hours reduced from 3,948 hours to 292 hours annually. These estimates are based on current processor registrations and our Web site testing. Previous estimates were based on a single product input process versus a new multiple products input process. Processors and distributors may continue to enter products one product at a time, but now have the opportunity to download their product information from existing product databases and use a template which they complete and download to the USDA Food and Commodity Connection Web site.

Estimating Burden

The estimated total burden for revision of a currently approved information collection for the USDA Food and Commodity Connection Web site once USDA eAuthentication Web site registration is completed as follows:

Estimate of Burden: Public reporting burden for this collection of information is estimated to average 0.16 hours per response.

Respondents: Institutional food service professionals (public and private schools, the military, Veterans Administration facilities, Native American facilities, health care facilities, colleges and universities, prisons, child care facilities, and facilities for needy families), processors, distributors, brokers, and associations.

Estimated Number of Respondents: 850 (300 institutional food service professionals, 300 processors, 100 distributors, 100 brokers, and 50 associations).

Estimated Number of Responses: 1,845.

Estimated Number of Responses per Respondent: 2.

Estimated Total Annual Burden on Respondents: 292 hours.

Specific information for respondents listed above is given. For each new registration submission, for the proposed request for revision of a currently approved information collections on the USDA Food and Commodity Connection Web site, is completed as follows:

(1) Institutional Food Service Professional registration submission. Institutional food service professionals (public and private schools, the military, Veterans Administration facilities, Native American facilities, health care facilities, colleges and universities, prisons, child care facilities and facilities for needy families) use this registration submission to create their user profile on the USDA Food and Commodity Connection Web site.

Estimate of Burden: Public reporting burden for this collection of information is estimated to average 7 minutes per response.

Respondents: Institutional food service professionals (public and private schools, the military, Veterans Administration facilities, Native American facilities, health care facilities, colleges and universities, prisons, child care facilities and facilities for needy families).

Estimated Number of Respondents: 300.

Estimated Number of Responses: 300.

Estimated Number of Responses per Respondent: Respondents only complete the registration once.

Estimated Total Annual Burden on Respondents: 33 hours.

(2) Processors registration submission. Processors use this registration submission to register their companies on the USDA Food and Commodity Connection Web site.

Estimate of Burden: Public reporting burden for this collection of information is estimated to average 9 minutes per response.

Respondents: Processors.

Estimated Number of Respondents: 300.

Estimated Number of Responses: 300.

Estimated Number of Responses per Respondent: Respondents only complete the registration once.

Estimated Total Annual Burden on Respondents: 45 hours.

(3) Processors Add a Plant and Request an Audit registration submission. Processors use this submission to register the plants in which they manufacture their products on the USDA Food and Commodity Connection Web site.

Estimate of Burden: Public reporting burden for this collection of information is estimated to average 8 minutes per response.

Respondents: Processors.

Estimated Number of Respondents: 300.

Estimated Number of Responses: 300.

Estimated Number of Responses per Respondent: Each respondent completes this submission once for each plant they register.

Estimated Total Annual Burden on Respondents: 41 hours.

(4) Processors Add a New Product registration submission (A Single Product). Processors use this registration submission to register their products manufactured from USDA supplied commodities and their commercial food products, on the USDA Food and Commodity Connection Web site using this method. Processors may include additional product information including but not limited to: Ingredients, product description, preparation and cooking instructions, nutrients, packaging data, and product fact sheet link.

Estimate of Burden: Public reporting burden for this collection of information is estimated to average 16 minutes per response.

Respondents: Processors.

Estimated Number of Respondents: 20.

Estimated Number of Responses: 200.

Estimated Number of Responses per Respondent: 10. Each respondent completes this submission once for each product they register.

Estimated Total Annual Burden on Respondents: 54 hours.

(5) Processors Add a New Product registration submission (Sales Partners Systems Upload). Processors use this registration submission to register their products manufactured from USDA supplied commodities and their commercial food products, on the USDA Food and Commodity Connection Web site using this method. Processors may include additional product information including but not limited to: Ingredients, product description, preparation and cooking instructions, nutrients, packaging data, and product fact sheet link.

Estimate of Burden: Public reporting burden for this collection of information is estimated to average 2 minutes per response.

Respondents: Processors.

Estimated Number of Respondents: 60.

Estimated Number of Responses: 60.

Estimated Number of Responses per Respondent: 1. Each respondent that uses the Sales Partners Systems to register their products completes this submission once.

Estimated Total Annual Burden on Respondents: 2 hours.

(6) Processors Add a New Product registration submission (Excel spreadsheet). Processors use this registration submission to register their products manufactured from USDA supplied commodities and their commercial food products, on the USDA Food and Commodity Connection Web site using this method. Processors may include additional product information including but not limited to: Ingredients, product description, preparation and cooking instructions, nutrients, packaging data, and product fact sheet link.

Estimate of Burden: Public reporting burden for this collection of information is estimated to average 10 minutes per response.

Respondents: Processors.

Estimated Number of Respondents: 220.

Estimated Number of Responses: 220.

Estimated Number of Responses per Respondent: 1. Each respondent that uses the Excel spreadsheet to register their products completes this submission once.

Estimated Total Annual Burden on Respondents: 35 hours.

(7) Distributors registration submission. Distributors use this registration submission to register their food service distribution companies on the USDA Food and Commodity Connection Web site.

Estimate of Burden: Public reporting burden for this collection of information is estimated to average 9 minutes per response.

Respondents: Distributors.

Estimated Number of Respondents: 100.

Estimated Number of Responses: 100.

Estimated Number of Responses per Respondent: Respondents only complete the registration once.

Estimated Total Annual Burden on Respondents: 15 hours.

(8) Distributors Add a Warehouse and Request an Audit registration submission. Distributors use this submission to register the warehouses in which they store the products they list on the USDA Food and Commodity Connection Web site.

Estimate of Burden: Public reporting burden for this collection of information is estimated to average 8 minutes per response.

Respondents: Distributors.

Estimated Number of Respondents: 100.

Estimated Number of Responses: 100.

Estimated Number of Responses per Respondent: Each respondent completes this submission once for each warehouse they register.

Estimated Total Annual Burden on Respondents: 14 hours.

(9) Distributors Add a New Product registration submission (A Single Product). Distributors use this registration submission to register their branded commercial food products on the USDA Food and Commodity Connection Web site using this method. Distributors may include additional product information including but not limited to: Ingredients, product description, preparation and cooking instructions, nutrients, package and packaging data, and product fact sheet link.

Estimate of Burden: Public reporting burden for this collection of information is estimated to average 16 minutes per response.

Respondents: Distributors.

Estimated Number of Respondents: 5.

Estimated Number of Responses: 10.

Estimated Number of Responses per Respondent: 10. Each respondent completes this submission once for each product they register.

Estimated Total Annual Burden on Respondents: 14 hours.

(10) Distributors Add a New Product registration submission (Sales Partners Systems Upload). Distributors use this registration submission to register their branded commercial food products on the USDA Food and Commodity Connection Web site using this method. Distributors may include additional product information including but not limited to: Ingredients, product description, preparation and cooking instructions, nutrients, package and packaging data, and product fact sheet link.

Estimate of Burden: Public reporting burden for this collection of information is estimated to average 2 minutes per response.

Respondents: Distributors.

Estimated Number of Respondents: 20.

Estimated Number of Responses: 1.

Estimated Number of Responses per Respondent: 1. Each respondent that uses the Sales Partners Systems to register their products completes this submission once.

Estimated Total Annual Burden on Respondents: 1 hour.

(11) Distributors Add a New Product registration submission (Excel spreadsheet). Distributors use this registration submission to register their branded commercial food products on the USDA Food and Commodity Connection Web site using this method. Distributors may include additional product information including but not limited to: Ingredients, product description, preparation and cooking instructions, nutrients, package and packaging data, and product fact sheet link.

Estimate of Burden: Public reporting burden for this collection of information is estimated to average 10 minutes per response.

Respondents: Distributors.

Estimated Number of Respondents: 25.

Estimated Number of Responses: 1.

Estimated Number of Responses per Respondent: 1. Each respondent that uses the Excel spreadsheet to register their products completes this submission once.

Estimated Total Annual Burden on Respondents: 4 hours.

(12) Brokers registration submission. Brokers use this registration submission to register the brokerage and the companies they represent on the USDA Food and Commodity Connection Web site.

Estimate of Burden: Public reporting burden for this collection of information is estimated to average 16 minutes per response.

Respondents: Brokers.

Estimated Number of Respondents: 100.

Estimated Number of Responses: 100.

Estimated Number of Responses per Respondent: 1. Respondents only complete the registration once.

Estimated Total Annual Burden on Respondents: 27 hours.

(13) Brokers Add a Branch registration submission. Brokers use this submission to register any branches for the brokerage on the USDA Food and Commodity Connection Web site.

Estimate of Burden: Public reporting burden for this collection of information is estimated to average 9 minutes per response.

Respondents: Brokers.

Estimated Number of Respondents: 20.

Estimated Number of Responses: 20.

Estimated Number of Responses per Respondent: 1. Respondents only complete this submission when they have branch offices and than they complete one for each branch office.

Estimated Total Annual Burden on Respondents: 3 hours.

(14) Association registration submission. Associations in the food service arena use this registration submission to create their user profile on the USDA Food and Commodity Connection Web site.

Estimate of Burden: Public reporting burden for this collection of information is estimated to average 7 minutes per response.

Respondents: Associations.

Estimated Number of Respondents: 50.

Estimated Number of Responses: 50.

Estimated Number of Responses per Respondent: 1. Respondents only complete the registration once.

Estimated Total Annual Burden on Respondents: 6 hours.

Comments: Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Lynne E. Yedinak, Food Quality Assurance Staff, Fruit and Vegetable Programs, Agricultural Marketing Service, U.S. Department of Agriculture, STOP 0243, 1400 Independence Avenue, SW., Washington, DC 20250-0243, telephone: (202) 720-9939 and Fax: (202) 690-0102. All comments received will be available for public inspection during regular business hours at the same address.

All responses to this notice will be summarized and included in the request for OMB approval. All comments will become a matter of public record.

Dated: January 12, 2007.
Lloyd C. Day,
Administrator, Agricultural Marketing Service.

[FR Doc. E7-624 Filed 1-17-07; 8:45 am]

BILLING CODE 3410-02-P